GENERAL SERVICES ADMINISTRATION

[OMB Control No. 3090-0293; Docket No. 2014-0001; Sequence 2]

Submission to OMB for Review; Reporting and Use of Information Concerning Integrity and Performance of Recipients of Grants and Cooperative Agreements

AGENCY: Office of Technology Strategy/Office of Government-wide Policy, General Services Administration (GSA).

ACTION: Notice of request for OMB review of an extension to an existing OMB information collection.

SUMMARY: Under the provisions of the Paperwork Reduction Act of 1995 (44 U.S.C. Chapter 35), the Regulatory Secretariat Division will be submitting to the Office of Management and Budget (OMB) a request to review and approve an extension of the currently approved information collection requirement regarding the Reporting and Use of Information Concerning Integrity and Performance of Recipients of Grants and Cooperative Agreements. A notice was published in the Federal Register at 79 FR 38028, July 3, 2014. No comments were received.

DATES: Submit comments on or before February 4, 2015.

ADDRESSES: Submit comments identified by Information Collection 3090-0293, Reporting and Use of Information Concerning Integrity and Performance of Recipients of Grants and Cooperative Agreements by any of the following methods:

• Regulations.gov: http://www.regulations.gov. Submit comments via the Federal eRulemaking portal by searching the OMB control number 3090-0293. Select the link “Comment Now” that corresponds with “Information Collection 3090-0293, Reporting and Use of Information Concerning Integrity and Performance of Recipients of Grants and Cooperative Agreements.” Follow the instructions provided on the screen. Please include your name, company name (if any), and “Information Collection 3090-0293, Reporting and Use of Information Concerning Integrity and Performance of Recipients of Grants and Cooperative Agreements” on your attached document.

• Mail: General Services Administration, Regulatory Secretariat Division (MVCB), 1800 F Street NW., Washington, DC 20405. ATTN: Ms. Flowers/IC 3090-0293.

Instructions: Please submit comments only and cite Information Collection 3090-0293, Reporting and Use of Information Concerning Integrity and Performance of Recipients of Grants and Cooperative Agreements, in all correspondence related to this collection. All comments received will be posted without change to http://www.regulations.gov, including any personal and/or business confidential information provided.

FOR FURTHER INFORMATION CONTACT: Ms. Judith R. Zawatsky, Director Outreach and Stakeholder Management, telephone 703-859-3826, email judith.zawatsky@gsa.gov.

SUPPLEMENTARY INFORMATION:

A. Purpose

This information collection is necessary in order to comply with section 872 of the Duncan Hunter National Defense Authorization Act of 2009, Pub. L. 110-417, as amended by Pub. L. 111-212, hereafter referred to as “the Act.” The Act requires GSA to establish and maintain databases of information regarding the integrity and performance of certain entities awarded Federal grants and contracts and use of the information by Federal officials making awards. OMB proposed implementing guidance for grants and cooperative agreements on February 18, 2010 (75 FR 7316). That guidance is in the process of being finalized. The proposed guidance requires appropriate Federal officials to report on terminations of awards due to material failure to comply with award terms and conditions; administrative agreements with entities to resolve suspension or debarment proceedings; and findings that entities were not qualified to receive awards. Through a new award term, each recipient would provide information about certain civil, criminal, and administrative proceedings that reached final disposition within the most recent five-year period and were connected with the award or performance of a Federal or State award. As section 872 requires, an entity also would be able to submit comments to the data system about any information that the system contains about the entity.

B. Annual Reporting Burden

Initial Response

Respondents: 11,500.

Responses per Respondent: 1.

Total Annual Responses: 11,500.

Hours Per Response: 0.1.

Total Response Burden Hours: 1,150.

Additional Response

Respondents: 1,600.

Responses per Respondent: 2.

Total Annual Responses: 3,200.

Hours Per Response: .5.

Total Response Burden Hours: 1,600.

Totals

Total number of responses: 14,700.

Total Burden Hours: 2,750.

C. Public Comments

Public comments are particularly invited on: Whether this collection of information is necessary for the proper performance of functions of the Reporting and Use of Information Concerning Integrity and Performance of Recipients of Grants and Cooperative Agreements, whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat Division (MVCB), 1800 F Street NW., Washington, DC 20405, telephone 202-501-4755. Please cite OMB Control No. 3090-0293, Reporting and Use of Information Concerning Integrity and Performance of Recipients of Grants and Cooperative Agreements, in all correspondence.

Dated: December 28, 2014.
Sonny Hashmi,
Chief Information Officer, Office of the Deputy CIO.

[FR Doc. 2014-30853 Filed 1-2-15; 8:45 am]

BILLING CODE 6820-WY-P